DEPARTMENT OF DEFENSE

Office of the Secretary

[No. DoD-2006-OS-0084]

Submission for OMB Review; Comment Request

AGENCY: Office of the Secretary, DoD.

ACTION: Notice.

The Department of Defense has submitted to OMB for clearance, the following proposal for collection of information under the provisions of the Paperwork Reduction Act (44 U.S.C. Chapter 35).

DATES: Consideration will be given to all comments received by June 21, 2006.

Title and OMB Number: Commercial Solicitation on DoD Installation; OMB Control Number 0704-TBD.

Type of Request: New.

Number of Respondents: 15.

Responses per Respondent: 1.

Annual Responses: 15.

Average Burden per Response: 2.27 hours.

Annual Burden Hours: 34.

Needs and Uses: No person has authority to enter upon a DoD installation to transact personal commercial solicitation without meeting specific requirements. This information collection is necessary to ensure established annual procedures for DoD registration for the sale of insurance on U.S. military overseas installations are met. Insurers are required to submit a letter of application certifying that they meet all criteria. The letter received from the applicant's provides information relative to the areas they intend to do business in and attest to agreement to satisfy application prerequisites.

Affected Public: Business or other for-profit.

Frequency: Annually.

Respondent Obligation: Required to obtain or retain benefits.

OMB Desk Officer: Ms. Hillary Jaffe.

Written comments and recommendations on the proposed information collection should be sent to Ms. Jaffe at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written requests for copies of the information collection proposal should be sent to Ms. Toppings at WHS/ESD/Information Management Division, 1777 North Kent Street, RPN, Suite 11000, Arlington, VA 22209-2133.

Dated: May 10, 2006.
Patricia L. Toppings,
Alternate OSD Federal Register Liaison Officer, Department of Defense.

[FR Doc. 06-4717 Filed 5-19-06; 8:45 am]

BILLING CODE 5001-06-M